DEPARTMENT OF THE INTERIOR

Fish and Wildlife Service

Notice of Availability of a Technical Agency Draft Recovery Plan for Six Mobile Basin Aquatic Snails for Review and Comment

AGENCY: Fish and Wildlife Service, Interior.

ACTION: Notice of document availability and public comment period.

SUMMARY: We, the Fish and Wildlife Service, announce the availability of the technical agency draft recovery plan for six Mobile Basin aquatic snails. The six snails included in the recovery plan are: the endangered cylindrical lioplax (Lioplax cyclostomaformis), flat pebblesnail (Lepyriam showalteri), and plicate rocksnail (Leptoxis ampla); and the threatened painted rocksnail (Leptoxis taeniata), round rocksnail (Leptoxis ampla), and lacy elimia (Elimia crenatella). All are endemic to the Mobile River Basin (Basin) where they inhabit shoals, rapids and riffles of large streams and rivers above the Fall Line. All six species have disappeared from more than 90 percent of their historic ranges as a result of impoundment, channelization, mining, dredging, and pollution from point and non-point sources. The technical agency draft recovery plan includes specific recovery objectives and criteria to be met in order to reclassify (downlist) the cylindrical lioplax, flat pebblesnail, and plicate rocksnail to threatened species and for the eventual delisting of all six species under the Endangered Species Act of 1973, as amended (Act). We solicit review and comment on this technical agency draft recovery plan from local, State, and Federal agencies, and the public.

DATES: In order to be considered, we must receive comments on the technical agency draft recovery plan on or before March 21, 2005.

ADDRESSES: If you wish to review this technical agency draft recovery plan, you may obtain a copy by contacting the Jackson, Mississippi Field Office, U.S. Fish and Wildlife Service, 6578 Dogwood View Parkway, Jackson, MS 39213 (telephone (601) 965-4900), or by visiting our recovery plan Web site at http://endangered.fws.gov/recovery/index.html#plans. If you wish to comment, you may submit your comments by any one of several methods:

1. You may submit written comments and materials to the Field Supervisor, at the above address.

2. You may hand-deliver written comments to our Jackson, Mississippi Field Office, at the above address, or fax your comments to (601) 965-4900.

3. You may send comments by e-mail to Paul_Hartfield@fws.gov. For directions on how to submit electronic filing of comments, see the “Public Comments Solicited” section.

Comments and materials received are available for public inspection on request, by appointment, during normal business hours at the above address.

FOR FURTHER INFORMATION CONTACT: Paul Hartfield (Telephone 601-321-1125).

SUPPLEMENTARY INFORMATION:

Background

On October 28, 1998 (63 FR 57610), we listed six aquatic snails, in the Mobile River Basin, as threatened (painted rocksnail, round rocksnail, lacy elimina) or endangered (cylindrical lioplax, flat pebblesnail, plicate rocksnail) under the Act. These six snails are endemic to portions of the Mobile River Basin in central Alabama. The cylindrical lioplax, flat pebblesnail, and round rocksnail are found in the Cahaba River drainage; the lacy elimina and painted rocksnail are in the Coosa River drainage; and the plicate rocksnail is in the Black Warrior River drainage. These snails require rock, boulder, or cobble substrates and clean, unpolluted water and are found on shoals and riffles of large streams and rivers. Impoundment and water quality degradation have eliminated the six snails from 90 percent or more of their historic habitat. Known populations are restricted to small portions of stream drainages. These surviving populations are currently threatened by pollutants such as sediments and nutrients that wash into streams from the land surface.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft plan is to provide a framework for the recovery of these six aquatic snails so that protection under the Act is no longer necessary. As reclassification and recovery criteria are met, the status of these species will be reviewed and they will be considered for reclassification or removal from the Federal List of Endangered and Threatened Wildlife and Plants (50 CFR part 17).

Public Comments Solicited

We solicit written comments on the recovery plan described. We will consider all comments received by the date specified above prior to final approval of the draft recovery plan.

Please submit electronic comments as an ASCII file format and avoid the use of special characters and encryption. Please also include your name and return address in your e-mail message. If you do not receive a confirmation from the system that we have received your e-mail message, contact us directly by calling our Mississippi Field Office (see ADDRESSES section).

Our practice is to make all comments, including names and home addresses of respondents, available for public review during regular business hours. Individual respondents may request that we withhold their home addresses from the record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533 (f).

Dated: December 15, 2004.
Cynthia K. Dohner,
Acting Regional Director, Southeast Region.

[FR Doc. 05-896 Filed 1-14-05; 8:45 am]

BILLING CODE 4310-55-P